DEPARTMENT OF HOMELAND SECURITY

Coast Guard

[USCG-2005-21610]

Nontank Vessel Response Plan Guidance

AGENCY: Coast Guard, DHS.

ACTION: Notice of availability.

SUMMARY: The Coast Guard announces the availability of a document that provides revised interim guidelines for the development and review of plans for responding to a discharge, or threat of a discharge, of oil from nontank vessels. The document, in the form of a change to Navigation and Vessel Inspection Circular No. 01-05, is available as indicated in this notice. Federal law requires that these response plans be prepared and submitted to the Coast Guard.

FOR FURTHER INFORMATION CONTACT: If you have questions on the change to Navigation and Vessel Inspection Circular No. 01-05, call Lieutenant Commander Rob Smith or Lieutenant Eric Bauer, Office of Vessel Activities at telephone 202-267-6714. If you have questions on viewing material in the docket, call Ms. Renee K. Wright, Program Manager, Docket Operations, telephone 202-493-0402.

SUPPLEMENTARY INFORMATION:

Background

On August 9, 2004, the President signed the Coast Guard and Maritime Transportation Act of 2004 (Pub. L. 108-293) (2004 Act). Section 701 of the 2004 Act amends section 311(a) and (j) of the Federal Water Pollution Control Act to require the preparation and submission of oil response plans for nontank vessels. The 2004 Act defines “nontank vessel” as a self-propelled vessel of 400 gross tons or greater, other than a tank vessel, that carries oil of any kind as fuel for main propulsion and that is a vessel of the United States or operates on the navigable waters of the United States. Under the 2004 Act, response plans must have been submitted to the Coast Guard by August 8, 2005.

The 2004 Act requires the Coast Guard to issue response plan regulations. However, to assist industry in meeting the August 8, 2005, deadline, the Coast Guard announced the availability of a Navigation and Vessel Inspection Circular (NVIC) in the Federal Register on February 16, 2005, (70 FR 7955) for use in the preparation and submission of response plans until regulations are in effect. As there are already certain provisions in the existing statute that these response plans must meet, the NVIC identifies those requirements, as well as the Coast Guard's recommendations. Change 1 to NVIC 01-05, Interim Guidance for the Development and Review of Response Plans for Nontank Vessels provides additional guidance for nontank vessels preparing and submitting response plans.

Access to the NVIC

A copy of Change 1 to NVIC 01-05 can be found in the docket at http://dms.dot.gov/ [USCG-2005-21610] and at http://www.uscg.mil/hq/g-m/nvic/. For those Individuals without Internet access, a copy of Change 1 to NVIC 01-05 may be obtained by contacting the VRP Program staff at 202-267-6714 or your local U.S. Coast Guard Sector Command.

Dated: February 15, 2006.
Howard L. Hime,
Acting Director of Standards Prevention.

[FR Doc. E6-2546 Filed 2-22-06; 8:45 am]

BILLING CODE 4910-15-P